DEPARTMENT OF COMMERCE

Notice Announcing the Americas Competitiveness Forum and Opportunities for Sponsorship and Media Partnership

AGENCY: International Trade Administration, Department of Commerce.

ACTION: Notice.

SUMMARY: U.S. Secretary of Commerce Carlos Gutierrez will host the inaugural Americas Competitiveness Forum on June 11-12, 2007, in Atlanta. This notice announces the Americas Competitiveness Forum and opportunities for sponsorship and media partnership.

DATES: The Americas Competitiveness Forum will be held on June 11-12, 2007. Applications for sponsorship and media partnership should be received no later than May 4, 2007.

ADDRESSES: For sponsorship opportunities please contact Alex Feldman, International Trade Administration at 202-482-2867 or Alex.Feldman@mail.doc.gov. For media partnership opportunities please contact Charles Skuba, Director of Public Affairs, International Trade Administration at 202-482-3809. Registration for the Forum can be found at http://trade.gov/competitiveness/acf/registration.asp.

FOR FURTHER INFORMATION CONTACT: The Americas Competitiveness Forum at ACF@mail.doc.gov or call the International Trade Administration at 1-800-USA-Trade or 202-482-0543. Additional information can be found at http://trade.gov/competitiveness/acf/index.asp.

SUPPLEMENTARY INFORMATION: U.S. Secretary of Commerce Carlos Gutierrez will host the inaugural Americas Competitiveness Forum on June 11-12, 2007, in Atlanta.

The Americas Competitiveness Forum (ACF) will provide a venue for government ministers from the Western Hemisphere to come together with leaders from the private sector, academia, and non-governmental organizations, to explore cutting edge ideas and best practices in several key areas of competitiveness.

The ACF's main tracks are:

• Sparking and sustaining innovation;

• Creating solutions in education and workforce development;

• Designing successful global supply chain strategies; and

• Fostering small business development and growth.

The ACF intends to serve as an on-going vehicle for governments, the private sector, academia, and non-governmental organizations to explore best practices and case studies on the issue of competitiveness in the Western Hemisphere. By highlighting practical examples, the ACF intends to provide information for decision makers to take steps to strengthen competitiveness in each country and in the region, in general.

Dated: April 12, 2007.
Alysia Wilson,
Director of Programs, Western Hemisphere.

[FR Doc. E7-7925 Filed 4-24-07; 8:45 am]

BILLING CODE 3510-DA-P